DEPARTMENT OF HOUSING AND URBAN DEVELOPMENT

[Docket No. FR-4561-N-01]

Submission for OMB Review—HUD Conditions and Appraisal Report, Fee or Roster Designation

AGENCY: Office of the Chief Information Officer, HUD.

ACTION: Notice.

SUMMARY: The proposed information collection requirement described below has been submitted to the Office of Management and Budget (OMB) for review, as required by the Paperwork Reduction Act. The Department is soliciting public comments on the subject proposal.

DATES: Comments Due Date: March 13, 2000.

ADDRESSES: Interested persons are invited to submit comments regarding this proposal. Comments should refer to the proposal by name and/or OMB approval number (2502-0538) and should be sent to: Joseph F. Lackey, Jr., OMB Desk Officer, Office of Management and Budget, Room 10235, New Executive Office Building, Washington, DC 20503; (202) 395-7316.

FOR FURTHER INFORMATION CONTACT: Wayne Eddins, Reports Management Officer, Q, Department of Housing and Urban Development, 451 Seventh Street, Southwest, Washington, DC 20410; e-mail Wayne_Eddins@HUD.gov; telephone (202) 708-2374. This is not a toll-free number. Copies of the proposed forms and other available documents submitted to OMB may be obtained from Mr. Eddins.

SUPPLEMENTARY INFORMATION: The Department has submitted the proposal for the collection of information, as described below, to OMB for review, as required by the Paperwork Reduction Act (44 U.S.C. Chapter 35). The Notice lists the following information: (1) The title of the information collection proposal; (2) the office of the agency to collect the information; (3) the OMB approval number, if applicable; (4) the description of the need for the information and its proposed use; (5) the agency form number, if applicable; (6) what members of the public will be affected by the proposal; (7) how frequently information submissions will be required; (8) an estimate of the total number of hours needed to prepare the information submission including number of respondents, frequency of response, and hours of response; (9) whether the proposal is new, an extension, reinstatement, or revision of an information collection requirement; and (10) the name and telephone number of an agency official familiar with the proposal and of the OMB Desk Officer for the Department.

This Notice also lists the following information:

Title of Proposal: HUD Conditions and Appraisal Report, Fee or Roster Designation.

OMB Approval Number: 2502-0538.

Form Numbers: HUD 92563, 92564-VC, 92564-HS, 92564-CN, Fannie May Forms 1004 and 1004B.

Description of the Need for the Information and its Proposed Use: The information collection is essential so that HUD can ensure that appraisals of HUD-insured single family properties are conducted by individuals who are qualified, trained and knowledgeable in the real estate appraisal field and that the appraisals of HUD-insured single family properties or prospective insured properties are thorough and independent.

Respondents: Individuals or households, Not-for-Profit Institutions, State, Local or Tribal Government.

Frequency of Submission: On Occasion.

Reporting Burden:

| Number of respondents | × | Frequency of response | × | Hours per response | = | Burden hours
VC Forms | 15,000 |  | 80 |  | .41 |  | 502,500

Total Estimated Burden Hours: 502,500.

Status: Reinstatement, with change.

Contact: Maynard Curry, HUD (202) 708-2700.

Authority: Section 3507 of the Paperwork Reduction Act of 1995, 44 U.S.C. 35, as amended.

Dated: February 3, 2000.
Wayne Eddins,
Departmental Reports Management Officer, Office of the Chief Information Officer.

[FR Doc. 00-3138 Filed 2-9-00; 8:45 am]

BILLING CODE 4210-01-M